DEPARTMENT OF TRANSPORTATION

National Highway Traffic Safety Administration

[Docket No. NHTSA-2004-18653; Notice 1]

Baby Trend, Inc., Receipt of Petition for Decision of Inconsequential Noncompliance

Baby Trend, Inc. (Baby Trend) has determined that certain child restraint seats that it produced and sold between approximately June 2002 and June 2003 do not comply with S5.2.3.2(a) of 49 CFR 571.213, Federal Motor Vehicle Safety Standard (FMVSS) No. 213, “Child restraint systems.” Baby Trend has filed an appropriate report pursuant to 49 CFR part 573, “Defect and Noncompliance Reports.”

Pursuant to 49 U.S.C. 30118(d) and 30120(h), Baby Trend has petitioned for an exemption from the notification and remedy requirements of 49 U.S.C. chapter 301 on the basis that this noncompliance is inconsequential to motor vehicle safety.

This notice of receipt of Baby Trend's petition is published under 49 U.S.C. 30118 and 30120 and does not represent any agency decision or other exercise of judgment concerning the merits of the petition.

A total of approximately 150,730 Latch-Loc infant car seats, Model #6078 (65,798 seats), Model #6076 (44,649 seats), Model #6020 (25,506 seats) and Model #6188 (14,777 seats) are affected. S5.2.3.2 of FMVSS No. 213 requires that:

Each system surface * * * which is contactable by the dummy head when the system is tested in accordance with S6.1 shall be covered with slow recovery, energy absorbing material with the following characteristics: (a) A 25 percent compression-deflection resistance of not less than 0.5 and not more than 10 pounds per square inch when tested in accordance with S6.3.

The foam covering as molded onto the seat back of these seats has a compression-deflection resistance of 0.3 pounds per square inch, and therefore does not meet the compression-deflection resistance required by S5.2.3.2(a).

Baby Trend believes that the noncompliance is inconsequential to motor vehicle safety and that no corrective action is warranted. Baby Trend states:

Technical issues were * * * noted involving variability in application of testing methodologies between Certified Analytical Laboratory Services, Inc. (formerly CALSPAN) and NHTSA staff. Certified Analytical Laboratory Services applied the Section 6.3.4.2 [sic—should say 6.3.1] compression-deflection resistance methodology on square sheet stock white foam in the appropriate ambient laboratory conditions and did not note any lack of conformance for white foam material with no back, green foam material with no back, white shaped foam material with no back, green shaped foam material with polybead backing and white foam shaped material with polybead backing. This information was supplied by the Company to NHTSA staff. Questions arose between the laboratory technicians about variability in testing methodologies to ensure absolute real world integrity of the product as it related to performance of the energy absorbing foam material in actual use as molded on seat shells. The Company also performed a Regulation No. 44, Annex 17 Test of the Energy Absorbing Material on the seats with calibrated dummies (* * * which in turn noted satisfactory real-world energy absorption performance of the molded foam covered seat shells). * * * [T]he Company does not believe that the product presents any real world safety hazard as verified by highly sensitive testing with calibrated dummies on actual production product.

Baby Trend further states:

[T]he Company has undertaken additional testing of the subject products in accordance with [revised FMVSS No. 213 (68 CFR 37620)]. * * * Despite the fact that testing to the revised Standard is not yet required, the Company has undertaken such testing to ensure that the technical non-compliance alleged with the component of the subject products is inconsequential as it relates to child restraint system safety. Testing was performed at Advanced Information Engineering Services Transportation Sciences Center during June 2004, utilizing the Center's tandem configuration HYGE Sled with reinforced seat covers on both benches. Three sled tests were performed utilizing six (6) subject seats in the rearward facing reclined configuration with either a 9-month-old size dummy or a 12-month-old size crabi dummy employing either the integral rigid latch system or the “soft latch” restraint system. Results of the tests indicated that the products were in compliance to the requirements of the revised FMVSS No. 213.

Interested persons are invited to submit written data, views, and arguments on the petition described above. Comments must refer to the docket and notice number cited at the beginning of this notice and be submitted by any of the following methods. Mail: Docket Management Facility, U.S. Department of Transportation, Nassif Building, Room PL-401, 400 Seventh Street, SW., Washington, DC 20590-0001. Hand Delivery: Room PL-401 on the plaza level of the Nassif Building, 400 Seventh Street, SW., Washington, DC. It is requested, but not required, that two copies of the comments be provided. The Docket Section is open on weekdays from 10 a.m. to 5 p.m. except Federal holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: August 30, 2004.

Authority: 49 U.S.C. 30118, 30120: delegations of authority at CFR 1.50 and 501.8.

Issued on: July 23, 2004.
Kenneth N. Weinstein,
Associate Administrator for Enforcement.

[FR Doc. 04-17269 Filed 7-28-04; 8:45 am]

BILLING CODE 4910-59-P